DEPARTMENT OF TRANSPORTATION

Pipeline and Hazardous Materials Safety Administration

49 CFR Part 192

[Docket No. PHMSA-2025-0117]

RIN 2137-AF80

Pipeline Safety: Clarifying Recordkeeping Requirements for Testing in MAOP Reconfirmation Regulation

ACTION: Notice of comment period.

AGENCY: Pipeline and Hazardous Materials Safety Administration (PHMSA), Department of Transportation (DOT).

SUMMARY: PHMSA published a final rule containing a technical correction clarifying the applicability of the requirements for reconfirming the maximum allowable operating pressure of certain gas transmission lines. PHMSA received a petition for reconsideration of the final rule and is providing the public with the opportunity to submit comments on the technical correction and petition for reconsideration.

DATES: Comments are due on September 8, 2025.

ADDRESSES: You may submit comments identified by the Docket Number PHMSA-2025-0117 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building, Ground Floor, Room W12-140, 1200 New Jersey Avenue SE, between 9 a.m. and 5 p.m., Monday through Friday, except Federal holidays.

Fax: 1-202-493-2251.

Instructions: Please include the docket number PHMSA-2025-0117 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 U.S.C. 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. Pursuant to 49 Code of Federal Regulations (CFR) § 190.343(a), you may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Sayler Palabrica, Standards and Rulemaking Division, Pipeline and Hazardous Materials Safety Administration (PHMSA), 2nd Floor, 1200 New Jersey Avenue SE, Washington, DC 20590-0001, or by email at sayler.palabrica@dot.gov. Any materials PHMSA receives that is not specifically designated as CBI will be placed in the public docket.

Docket: For access to the docket to read background documents or comments received, go to http://www.regulations.gov. Follow the online instructions for accessing the docket. Alternatively, you may review the documents in person at the street address listed above.

FOR FURTHER INFORMATION CONTACT: Sayler Palabrica, Transportation Specialist, 1200 New Jersey Avenue SE, Washington, DC 20590, by phone at (202) 744-0825 or email at sayler.palabrica@dot.gov.

SUPPLEMENTARY INFORMATION: On July 1, 2025, PHMSA published a final rule titled, “Pipeline Safety: Clarifying Recordkeeping Requirements for Testing in MAOP Reconfirmation Regulation.” ¹ The final rule contained a technical correction clarifying the applicability of the requirements in 49 CFR 192.624(a)(1) for reconfirming the maximum allowable operating pressure of certain gas transmission lines.² On July 31, 2025, the Pipeline Safety Trust (PST) filed a petition for reconsideration and a request for a stay of the effective date of the final rule under 49 CFR 190.335(a). The petition is available for review in the docket for this proceeding.

¹ 90 FR 28054 (July 1, 2025).

² 90 FR at 28055.

Pursuant to the authority provided in 49 CFR 190.337(a), PHMSA is providing the public with a 30-day period for submitting comments on the technical correction and petition for reconsideration.

Issued in Washington, DC, on August 6, 2025, under the authority delegated in 49 CFR 1.97.
Benjamin D. Kochman,
Acting Administrator.

[FR Doc. 2025-15141 Filed 8-7-25; 8:45 am]

BILLING CODE 4910-60-P